DEPARTMENT OF DEFENSE

Department of the Army

Availability for Non-Exclusive, Exclusive, or Partially Exclusive Licensing of U.S. Patent Application Concerning Lateral Visual Field Testing Device

AGENCY: Department of the Army, DOD.

ACTION: Notice.

SUMMARY: In accordance with 37 CFR 404.6 and 404.7, announcement is made of the availability for licensing of the invention described in U.S. Patent Application no. 60/288,925 entitled “Lateral Visual Field Testing Device (LVFT),” filed May 7, 2001. The United States Government, as represented by the Secretary of the Army has rights in this invention.

ADDRESSES: Commander, U.S. Army Medical Research and Materiel Command, ATTN: Command Judge Advocate, MCMR-JA, 504 Scott Street, Fort Detrick, Frederick, MD 21702-5012.

FOR FURTHER INFORMATION CONTACT: For patent issues, Ms. Elizabeth Arwine, Patent Attorney, (301) 619-7808. For licensing issues, Dr. Paul Mele, Office of Research & Technology Assessment, (301) 619-6664, both at telefax (301) 619-5034.

SUPPLEMENTARY INFORMATION: The LVFT is intended to test peripheral visual awareness of the lateral visual fields in a complex environment where multitasking is the norm.

Luz D. Ortiz,
Army Federal Register Liaison Officer.

[FR Doc. 02-13046 Filed 5-23-02; 8:45 am]

BILLING CODE 3710-08-M